DEPARTMENT OF THE INTERIOR

Minerals Management Service

Agency Information Collection Activities: Submitted for Office of Management and Budget (OMB) Review; Comment Request

AGENCY: Minerals Management Service (MMS), Interior.

ACTION: Notice of extension and revision of a currently approved information collection (OMB Control Number 1010-0059).

SUMMARY: To comply with the Paperwork Reduction Act of 1995 (PRA), we are notifying the public that we have submitted to OMB an information collection request (ICR) to renew approval of the paperwork requirements in the regulations under 30 CFR part 250, subpart H, Oil and Gas Production Safety Systems, and related documents. This notice also provides the public a second opportunity to comment on the paperwork burden of these regulatory requirements.

DATES: Submit written comments by December 16, 2002.

ADDRESSES: You may submit comments directly to the Office of Information and Regulatory Affairs, OMB, Attention: Desk Officer for the Department of the Interior (1010-0059), 725 17th Street, NW., Washington, DC 20503. Mail or hand-carry a copy of your comments to the Department of the Interior; Minerals Management Service; Attention: Rules Processing Team; Mail Stop 4024; 381 Elden Street; Herndon, Virginia 20170-4817. If you wish to E-mail your comments to MMS, the address is: rules.comments@MMS.gov. Reference Information Collection 1010-0059 in your subject line and mark your message for return receipt. Include your name and return address in your message text.

FOR FURTHER INFORMATION CONTACT: Alexis London, Rules Processing Team, telephone (703) 787-1600. You may also contact Alexis London to obtain a copy at no cost of the regulations that require the subject collection of information.

SUPPLEMENTARY INFORMATION: Title: 30 CFR part 250, Subpart H, Oil and Gas Production Safety Systems.

OMB Control Number: 1010-0059.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease. Operations on the OCS must preserve, protect and develop oil and natural gas resources in a manner which is consistent with the need to make such resources available to meet the Nation's energy needs as rapidly as possible; to balance orderly energy resource development with protection of human, marine, and coastal environments; to ensure the public a fair and equitable return on the resources of the OCS; and to preserve and maintain free enterprise competition. The OCS Lands Act at 43 U.S.C. 1332(6) states that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.”

This notice concerns the reporting and recordkeeping elements of 30 CFR part 250, subpart H, Oil and Gas Production Safety Systems, and related notices to lessees and operators that clarify and provide additional guidance on some aspects of the regulations. Responses are mandatory. No questions of a “sensitive” nature are asked. MMS will protect proprietary information according to 30 CFR 250.196 (Data and information to be made available to the public), 30 CFR part 252 (OCS Oil and Gas Information Program), and the Freedom of Information Act (5 U.S.C. 552) and its implementing regulations (43 CFR part 2).

MMS OCS Regions use the information submitted under subpart H to evaluate equipment and/or procedures that lessees propose to use during production operations, including evaluation of requests for departures or use of alternative procedures. Information submitted is also used to verify the no-flow condition of wells to continue the waiver of requirements to install valves capable of preventing backflow. MMS inspectors review the records maintained to verify compliance with testing and minimum safety requirements.

The Gulf of Mexico OCS Region (GOMR) has recently re-evaluated its policy, and issued guidance, regarding approval of “new” requests to use a chemical-only fire prevention and control system in lieu of a water system. With respect to “currently-approved” departures, MMS may require additional information be submitted to maintain approval of the departure. They use the information to determine if the chemical-only system provides the equivalent protection of a water system for the egress of personnel should a fire occur.

In the Pacific OCS Region, MMS reviews copies of the Emergency Action Plans (EAP) that lessees and operators submit to their local air quality agencies to ensure that abatement procedures do not jeopardize safe platform operations.

Frequency: The frequency of reporting is on occasion or annual.

Estimated Number and Description of Respondents: Approximately 130 Federal OCS oil and gas or sulphur lessees.

Estimated Reporting and Recordkeeping “Hour” Burden: The estimated annual “hour” burden for this information collection is a total of 11,357 hours. The following chart details the individual components and estimated hour burdens. In calculating the burdens, we assumed that respondents perform certain requirements in the normal course of their activities. We consider these to be usual and customary and took that into account in estimating the burden.

Citation 30 CFR 250 subpart H | Reporting and recordkeeping requirement | Hour burden | Average annual responses | Annual burden hours
800; 801; 802; 803; related NTLs | Submit application and request submissions approval for design, installation, and operation of subsurface safety devices and surface production-safety systems; including related requests for departures or use of alternative procedures (supervisory control and data acquisition systems, valve closure times, time delay circuitry, etc.) | 8 | 540 submissions | 4,320
801(g) | Submit annual verification of no-flow condition of well | 2 | 50 verifications | 100
801(h)(1) | Form MMS-124, Sundry Notices and Reports on Wells (renamed Application for Permit to Modify) | Burden covered under 1010-0045 |  | 0
801(h)(2); 803(c) | Identify well with sign on wellhead that subsurface safety device is removed; flag safety devices that are out of service | Usual/customary safety procedure for removing or identifying out-of-service safety devices |  | 0
802(e)(5) | Submit statement certifying final surface production safety system installed conforms to approved design | 3 | 175 statements | 525
803(b)(8); related NTLs | Submit information (risk assessment) to request new firefighting system departure approval (GOMR) | 4 | 150 submissions | 600
803(b)(8); related NTLs | Submit information (risk assessment) to retain current firefighting system departure approval (GOMR) | 4 | 100 submissions | 400
803(b)(8)(iv) | Post diagram of firefighting system | 2 | 95 postings | 190
804(a)(11); 800 | Notify MMS prior to production when ready to conduct pre-production test and inspection | ½ | 175 notices | 88
804; related NTLs | Request departure from testing schedule requirements | 1 | 105 requests | 105
804; related NTL | Submit copy of state-required EAP containing test abatement plans (Pacific OCS Region) | 1 | 7 plans | 7
806(c) | Request evaluation and approval of other quality assurance programs covering manufacture of SPPE | 2 | 1 request | 2
800-807 | General departure and alternative compliance requests not specifically covered elsewhere in subpart H regulations | 4 | 215 requests | 860
Subtotal Reporting |  |  | 1,613 | 7,197
801(h)(2); 802(e); 804(b) | Maintain records on subsurface and surface safety devices to include approved design & installation features, testing, repair, removal, etc | 12 | 130 lessees | 1,560
803(b)(1)(iii), (2)(i) | Maintain pressure-recorder charts. | 12 | 130 lessees | 1,560
803(b)(4)(iii) | Maintain schematic of the emergency shutdown which indicates the control functions of all safety devices | 4 | 130 lessees | 520
803(b)(11) | Maintain records of wells which have erosion-control programs and results | 4 | 130 lessees | 520
Subtotal Recordkeeping |  |  | 520 | 4,160
Total Hour Burden |  |  | 2,133 | 11,357

Estimated Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on March 28, 2002, we published a Federal Register notice (67 FR 14966) announcing that we would submit this ICR to OMB for approval. The notice provided the required 60-day comment period. In addition, § 250.199 provides the OMB control numbers for the information collection requirements imposed by the 30 CFR part 250 regulations and forms. That regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by December 16, 2002.

Public Comment Policy: Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: October 17, 2002.
E.P. Danenberger,
Chief, Engineering and Operations Division.

[FR Doc. 02-28863 Filed 11-13-02; 8:45 am]

BILLING CODE 4310-MR-P